DEPARTMENT OF THE INTERIOR

Bureau of Land Management

[LLORB06000 L14300000.ER0000.241A000; HAG 9-0188]

Notice of Intent To Prepare an Environmental Impact Statement and Possible Resource Management Plan Amendments for the North Steens Transmission Line Project in Harney County, OR

AGENCY: Bureau of Land Management, Interior.

ACTION: Notice of Intent.

SUMMARY: The Bureau of Land Management (BLM), Burns District Office, Oregon, intends to prepare an Environmental Impact Statement (EIS) and to solicit public comments pursuant to section 102(2)(C) of the National Environmental Policy Act (NEPA) of 1969 in response to a right-of-way application filed by Echanis, LLC, for the proposed North Steens Transmission Line Project. The project will involve BLM-administered public lands, private lands, and lands administered by the U.S. Fish and Wildlife Service, Malheur National Wildlife Refuge, Harney County, Oregon.

DATES: This notice initiates public scoping. Scoping comments shall be submitted on or before August 26, 2009.

The BLM will announce public scoping meetings to identify relevant issues through local news media, newsletters, and the BLM Web site (http://www.blm.gov/or/districts/burns) at least 15 days prior to each meeting. Public meetings will tentatively be held in Burns, Bend, Diamond, and Frenchglen, Oregon, and other communities if the interest warrants. We will provide additional opportunities for public participation upon publication of the Draft EIS, including a public comment period.

ADDRESSES: You may submit comments to the North Steens Transmission Line Project Lead, BLM Burns District Office, 28910 Highway 20 West, Hines, Oregon 97738; Fax (541) 573-4411; or e-mail: OR_Burns_NS_Transmission_Line_EIS@blm.gov.

FOR FURTHER INFORMATION CONTACT: For further information and/or to have your name added to our mailing list, contact the North Steens Transmission Line Project Lead, BLM Burns District Office, 28910 Highway 20 West, Hines, Oregon 97738; (541) 573-4400; Fax (541) 573-4411; or e-mail: OR_Burns_NS_Transmission_Line_EIS@blm.gov.

SUPPLEMENTARY INFORMATION: In December 2008, Harney Electric Cooperative filed a preliminary application for a right-of-way with the BLM for construction, operation, maintenance, and termination of a 29-mile long 230 kilovolt (kV) transmission line that would connect the Echanis Wind Energy Project with Harney Electric Cooperative's existing transmission system near Diamond Junction, Oregon. The application was subsequently assigned to Echanis, LLC, a subsidiary of Columbia Energy Partners, LLC, who proposes to fund, construct, and oversee the initial development and commissioning of the project. Upon commission, the transmission line would be deeded to Harney Electric Cooperative for long-term operation and maintenance as part of their electric transmission and distribution system in southeast Oregon and northern Nevada. The purpose of the project would be to transmit up to approximately 103.5 megawatts (MW) of renewable energy from the Echanis Wind Energy Project to target service areas in the Pacific Northwest. The proposed transmission project would also be designed with additional capacity to conduct power generated from other possible renewable energy generation facilities that may be planned in the future. The proposed transmission line would begin at the Echanis Wind Energy Project southeast of Diamond, Oregon, on private lands, and end at Harney Electric Cooperative's existing 115 kilovolt (kV) line near Diamond Junction. The proposed line would cross approximately 19 miles of private land, 9 miles of public land administered by the BLM, and 1.3 miles of land on the Malheur National Wildlife Refuge managed by the U.S. Fish and Wildlife Service, including a span over the Blitzen Valley of approximately 1,800 feet. Echanis, LLC, proposes to utilize steel structures approximately 90 to 140 feet in height with average spans between towers of 700 feet. The proposed right-of-way would be 150 feet wide. Additional temporary work space would also be required during construction for material storage, line tensioning sites, and construction access.

The Echanis Wind Energy Project is to be located entirely within private lands. A conditional use permit for the wind project was issued to Columbia Energy Partners by Harney County in April 2007. Although wind testing and project feasibility studies are currently ongoing on private, State, and Federal lands in several areas throughout Harney County, the Echanis project is the only wind energy project approved for development, to date, by Harney County or any other jurisdiction. Currently there are no transmission facilities available in the Diamond/North Steens area to transport electrical power produced from the Echanis Wind Energy Project to the existing transmission grid.

Public scoping will aid in determining relevant issues influencing the scope of the environmental analysis, including alternatives, and guide the process for developing the EIS. At present, the BLM has identified the following preliminary issues: sage-grouse, migratory birds, recreation, local and regional social/economic conditions, visual resource management, and special management areas including the U.S. Fish and Wildlife Service, Malheur National Wildlife Refuge and the Steens Mountain Cooperative Management and Protection Area.

An interdisciplinary approach will be used to develop the EIS in order to consider the variety of resource issues and concerns identified through the scoping process. Resources addressed in the EIS process will include (but are not limited to) air quality, American Indian traditional practices, biological soil crusts, cultural heritage, fire management, fisheries, grazing management, migratory birds, minerals, noxious weeds, recreation, soils, social/economic values, special status species, transportation/roads, vegetation, visual resources, water quality, riparian zones, wildlife, and wilderness values. The BLM will analyze the proposed action and no action alternatives, as well as other reasonable alternatives to the proposed transmission line location, access routes, and construction/design methods.

Authorization of this proposal may require amendments to one or more Resource Management Plans (RMP). By this notice, the BLM is complying with requirements in 43 CFR 1610.2(c) to notify the public of potential RMP amendments, predicated on the findings of the EIS. If RMP amendments are necessary, the BLM will integrate the RMP process with the NEPA process for this project.

Any authorization of the project on Malheur National Wildlife Refuge lands would require a formal determination by the U.S. Fish and Wildlife Service that the proposal is compatible with Refuge purposes. This compatibility determination would be incorporated into the NEPA process for this project.

The BLM is the lead Federal agency for the NEPA analysis process and preparation of the EIS. U.S. Fish and Wildlife Service-Malheur National Wildlife Refuge and Harney County have agreed to be cooperating agencies in the EIS. Other potential cooperating agencies identified at this time include the U.S. Fish and Wildlife Service-Bend Field Office, Burns Paiute Tribe, and State of Oregon Department of Fish and Wildlife. Other cooperating agencies having specific expertise or interests in the project could also be invited to participate based on the outcome of scoping.

You may submit comments on issues in writing to the BLM at any public scoping meeting, or you may submit them to the BLM using one of the methods listed in the ADDRESSES section above. Comments, including the names and addresses of respondents will be available for public review at the BLM Burns District Office during regular business hours 7:45 a.m. to 4:30 p.m., Monday through Friday, except holidays, and may be published as part of the EIS. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

(Authority: 43 CFR part 2800)

Joan Suther,
Acting Burns District Manager.

[FR Doc. E9-17780 Filed 7-24-09; 8:45 am]

BILLING CODE 4310-33-P